DEPARTMENT OF HEALTH AND HUMAN SERVICES

Centers for Disease Control and Prevention

[60Day-02-16]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Formative Research and Evaluation of Native American and Asian American Populations associated with CDC's Youth Media Campaign—New—National Center for Chronic Disease Prevention and Health Promotion (NCCDPHP), Centers for Disease Control and Prevention (CDC).

In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with the Health Resources and Services Administration (HRSA), the National Center for Child Health and Human Development (NICHD), and the Substance Abuse and Mental Health Services Administration (SAMHSA), is coordinating an effort to plan, implement, and evaluate a campaign designed to clearly communicate messages that will help kids develop habits that foster good health over a lifetime. The Campaign will be based on principles that have been shown to enhance success, including: Designing messages based on research; testing messages with the intended audiences; involving young people in all aspects of Campaign planning and implementation; enlisting the involvement and support of parents and other influencers; tracking the Campaign's effectiveness and revising Campaign messages and strategies as needed.

For the Campaign to be successful, a thorough understanding of Native American and Asian American tweens (youth ages 9-13), the health behaviors promoted, and the barriers and motivations for adopting and sustaining them is essential. Additionally, a thorough understanding of those who can influence the health behaviors of Native American and Asian American tweens is important. This understanding will facilitate the development of messages, strategies, and tactics that resonate with Native American and Asian American tweens, parents and other influencers.

Research for the national and minority audience components of the Youth Media Campaign will identify the Native American and Asian American target audience(s) using standard market research techniques and will address geographic and demographic diversity to the extent necessary to assure appropriate audience representation. This Native American and Asian American audience research may include, but not be limited to, intercept interviews, theater testing, expert reviews, in-depth interviews, pilot/field tests/partial launches, telephone and/or face-to-face interviews, and mail questionnaires with various Native American and Asian American audiences (tweens, ages 9-13; parents; adult influencers; older teen influencers; and partners/alliances). In addition, panels or reoccurring focus groups of Native American and Asian American tweens and parents will convene to generate on-going feedback to the Campaign. The panels will suggest ideas, review creative executions, and provide feedback on what works and what does not work.

The intent of this Native American and Asian American audience research is to solicit input and feedback from audiences on a national level and from Native American and Asian American audiences within targeted populations. Information gathered from both Native American and Asian American audiences will be used to modify/refine and/or revise Campaign messages and strategies and evaluate Campaign effectiveness.

Respondents | Number of respondents | Number of responses/respondent | Average burden/ response (in hours) | Total burden (in hours)
Tweens (ages 9-13) | 5,000 | 1 | 15/60 | 1,250
Reoccurring tween panel(s) | 10 | 4 | 2 | 80
Parents | 2,500 | 1 | 15/60 | 625
Reoccurring parent panel(s) | 20 | 4 | 2 | 160
Adult influencers | 1,000 | 1 | 15/60 | 250
Older teen influencers | 500 | 1 | 15/60 | 125
Total |  |  |  | 2,490

Dated: December 6, 2001.
Nancy E. Cheal,
Acting Associate Director for Policy, Planning and Evaluation, Centers for Disease Control and Prevention.

[FR Doc. 01-30862 Filed 12-13-01; 8:45 am]

BILLING CODE 4163-18-P